DEPARTMENT OF DEFENSE

Office of the Secretary

Renewal of Department of Defense Federal Advisory Committees

AGENCY: DoD.

ACTION: Renewal of Federal Advisory Committee.

SUMMARY: The Department of Defense is publishing this notice to announce that it is renewing the charter for the Air University Board of Visitors (“the Board”).

FOR FURTHER INFORMATION CONTACT: Jim Freeman, Advisory Committee Management Officer for the Department of Defense, 703-692-5952.

SUPPLEMENTARY INFORMATION: This committee's charter is being renewed under the provisions of the Federal Advisory Committee Act of 1972 (5 U.S.C. Appendix, as amended), the Government in the Sunshine Act of 1976 (5 U.S.C. 552b) (“the Sunshine Act”), and 41 CFR 102-3.50(d).

The Board is a discretionary Federal advisory committee that shall provide the Secretary of Defense, through the Secretary of the Air Force, with independent advice and recommendations on educational, doctrinal, and research policies and activities of the Air University (“the University”). The Board shall:

a. Review and evaluate progress of the educational programs and the support activities of the University;

b. Review and evaluate the published statement of purpose, institutional polices, and financial resources of the University; and

c. Review and evaluate the educational effectiveness, quality of student learning, administrative and educational support services, and teaching, research, and public service of the University.

The Board shall report to the Secretary of the Air Force through the Commander and President of the University. The Secretary of the Air Force may act upon the Board's advice and recommendations.

The Department of Defense (DoD), through the Department of the Air Force, shall provide support as deemed necessary for the Board's performance, and shall ensure compliance with the requirements of the FACA, the Government in the Sunshine Act of 1976 (5 U.S.C. 552b, as amended) (“the Sunshine Act”), governing Federal statutes and regulations, and governing DoD policies and procedures.

The Board shall be comprised of no more than 15 members appointed by the Secretary of Defense who are eminent authorities in the field of air power, defense, management, leadership, and academia.

The Secretary of Defense authorizes the Secretary of the Air Force to appoint the Board's Chair from among the membership approved by the Secretary of Defense or Deputy Secretary of Defense, and this authority may be further delegated in writing but no lower than to the Commander and President of the Air University.

The Board members will be appointed by the Secretary of Defense or the Deputy Secretary of Defense for a term of service of one-to-four years and their appointments will be renewed on an annual basis in accordance with DoD policies and procedures. Those members, who are not full-time or permanent part-time Federal employees, shall be appointed as experts and consultants under the authority of 5 U.S.C. 3109 to serve as special government employee (SGE) members. Board members who are full-time or permanent part-time Federal employees will serve as regular government employee (RGE) members. In addition, all Board members, with the exception of reimbursement for official Board-related travel and per diem, shall serve without compensation.

No member, unless authorized by the Secretary of Defense, may serve more than two consecutive terms of service on the Board, to include its subcommittees, or serve on more than two DoD Federal advisory committees at one time.

Each Board member is appointed to provide advice on behalf of the government on the basis of his or her best judgment without representing any particular point of view and in a manner that is free from conflict of interest.

The DoD, when necessary and consistent with the Board's mission and DoD policies and procedures, may establish subcommittees, task forces, or working groups to support the Board. Establishment of subcommittees will be based upon a written determination, to include terms of reference, by the Secretary of Defense, the Deputy Secretary of Defense, or the Secretary of the Air Force, as the Board's sponsor.

Subcommittees shall not work independently of the Board, and shall report all their recommendations and advice solely to the Board for full deliberation and discussion. Subcommittees have no authority to make decisions on behalf of the chartered Board; nor can any subcommittee or its members update or report directly to the DoD or to any Federal officers or employees.

All subcommittee members shall be appointed in the same manner as the Board members; that is, the Secretary of Defense or the Deputy Secretary of Defense shall appoint subcommittee members to a term of service of one-to-four years with annual renewals, even if the member in question is already a Board member. Subcommittee members shall not serve more than two consecutive terms of service, without approval by the Secretary of Defense or Deputy Secretary of Defense. Subcommittee members are appointed to provide advice on the basis of their best judgment without representing an particular point of view and in a manner that is free from conflict of interest.

Subcommittee members, if not full-time or part-time government employees, shall be appointed to serve as experts and consultants pursuant to 5 U.S.C. 3109 to serve as SGE members. Those individuals who are full-time or permanent part-time Federal officers or employees shall serve as RGE members, subject to annual renewals. With the exception of reimbursement for official Board-related travel and per diem, subcommittee members shall serve without compensation. The Secretary of Defense authorizes the Secretary of the Air Force to appoint the chair of any appropriately approved subcommittees from among the subcommittee membership approved by the Secretary of Defense or Deputy Secretary of Defense, and this authority may be further delegated in but no lower than to the Commander and President of the Air University.

All subcommittees operate under the provisions of FACA, the Sunshine Act, governing Federal statutes and regulations, and established DoD policies and procedures.

Currently, DoD has approved the following permanent subcommittee to the Board:

a. The Air Force Institute of Technology (AFIT) subcommittee shall be comprised of no more than fifteen members. The President of the Naval Postgraduate School shall serve as an ex-officio RGE member. The primary focus of the subcommittee is to provide advice and recommendations to the Board concerning engineering and technology graduate programs. The estimated number and frequency of subcommittee meetings is one per year.

The Board's Designated Federal Officer (DFO), pursuant to DoD policy, shall be a full-time or permanent part-time DoD employee, and shall be appointed in accordance with established DoD policies and procedures.

The Board's DFO is required to be in attendance at all meetings of the Board and any subcommittees for the entire duration of each and every meeting; however, in the absence of the DFO, a properly approved Alternate DFO shall attend the entire duration of all of the meetings of the Board and its subcommittees.

The DFO, or the Alternate DFO, shall call all meetings of the Board and its subcommittees; prepare and approve all meeting agendas; and adjourn any meeting when the DFO, or the Alternate DFO, determines adjournment to be in the public interest or required by governing regulations or DoD policies and procedures.

Pursuant to 41 CFR 102-3.105(j) and 102-3.140, the public or interested organizations may submit written statements to Air University Board of Visitor membership about the Board's mission and functions. Written statements may be submitted at any time or in response to the stated agenda of planned meeting of Air University Board of Visitors.

All written statements shall be submitted to the DFO for the Air University Board of Visitors, and this individual will ensure that the written statements are provided to the membership for their consideration. Contact information for the Air University Board of Visitors DFO can be obtained from the GSA's FACA Database— http://www.facadatabase.gov/.

The DFO, pursuant to 41 CFR 102-3.150, will announce planned meetings of the Air University Board of Visitors. The DFO, at that time, may provide additional guidance on the submission of written statements that are in response to the stated agenda for the planned meeting in question.

Dated: April 22, 2014.
Aaron Siegel,
Alternate OSD Federal Register Liaison Officer, Department of Defense.

[FR Doc. 2014-09502 Filed 4-25-14; 8:45 am]

BILLING CODE 5001-06-P